DEPARTMENT OF TRANSPORTATION

National Highway Traffic Safety Administration

[Docket No. NHTSA-2022-0067]

General Motors—Receipt of Petition for Temporary Exemption From Various Requirements of the Federal Motor Vehicle Safety Standards for an Automated Driving System-Equipped Vehicle; Request for Comments; Extension of Comment Period

AGENCY: National Highway Traffic Safety Administration (NHTSA), Department of Transportation (DOT).

ACTION: Extension of comment period.

SUMMARY: NHTSA received five requests to extend the comment period for a notice NHTSA published on July 21, 2022, seeking comment on NHTSA's receipt of a petition for temporary exemption from General Motors (GM). GM's petition seeks a temporary exemption from various requirements of the Federal motor vehicle safety standards (FMVSS) for a vehicle equipped with an automated driving system (ADS). In accordance with statutory and administrative provisions, NHTSA published a notice announcing receipt of GM's petition and seeking public comment. The comment period for the notice was scheduled to end on August 22, 2022. NHTSA is extending the comment period for the July 21, 2022 notice by 30 days.

DATES: The comment period for the notice published on July 21, 2022 at 87 FR 43959 is extended to September 21, 2022.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE, Washington, DC 20590.

• Hand Delivery or Courier: West Building, Ground Floor, Room W12-140, 1200 New Jersey Avenue SE, between 9 a.m. and 5 p.m. Eastern Time, Monday through Friday, except Federal holidays. To be sure someone is there to help you, please call (202) 366-9332 before coming.

• Fax: 202-493-2251.

Instructions: All submissions must include the agency name and docket number. Note that all comments received will be posted without change to https://www.regulations.gov, including any personal information provided. Please see the Privacy Act discussion below. NHTSA will consider all comments received before the close of business on the comment closing date indicated above. To the extent possible, NHTSA will also consider comments filed after the closing date.

Docket: For access to the docket to read background documents or comments received, go to https://www.regulations.gov at any time or to 1200 New Jersey Avenue SE, West Building Ground Floor, Room W12-140, Washington, DC 20590, between 9 a.m. and 5 p.m., Monday through Friday, except Federal Holidays. Telephone: 202-366-9826.

Privacy Act: In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact Dan for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

FOR FURTHER INFORMATION CONTACT: Callie Roach, Office of the Chief Counsel, National Highway Traffic Safety Administration, 1200 New Jersey Avenue SE, Washington, DC 20590. Telephone: 202-366-2992; Fax: 202-366-3820.

SUPPLEMENTARY INFORMATION: On July 21, 2022, in accordance with statutory and administrative provisions, NHTSA published a notice announcing receipt of a petition from GM seeking exemption from portions of six FMVSS (87 FR 43595). GM's petition sought exemption from portions of FMVSS No. 102; Transmission shift position sequence, starter interlock, and transmission braking effect, FMVSS No. 104; Windshield wiping and washing systems, FMVSS No. 108; Lamps, reflective devices, and associated equipment, FMVSS No. 111; Rear visibility, FMVSS No. 201; Occupant protection in interior impact, and FMVSS No. 208; Occupant crash protection. The notice sought public comment regarding the merits of GM's exemption and on potential terms and conditions that should be applied to the temporary exemption if granted. The comment period for the notice is scheduled to end on August 22, 2022.

Comment Period Extension Requests

NHTSA received five requests to extend the comment period on the notice by 60 days. NHTSA received a joint request from the Advocates for Highway and Auto Safety and the Center for Auto Safety and individual requests from the San Francisco Municipal Transportation Agency (SFMTA), the City of Oakland Department of Transportation (OakDOT), the National Association of City Transportation Officials (NACTO), and the League of American Bicyclists.

The Advocates for Highway and Auto Safety and the Center for Auto Safety submitted a joint letter on August 4, 2022, requesting a 60-day extension of the comment period. The requestors state that the novel petition at issue raises numerous complex technical and policy issues involving vehicle safety that necessitate significant analysis. The requesters further state that extending the comment period will permit them to provide NHTSA with comprehensive input on the many substantial questions raised. The requestors state that extending the public comment period is in the public interest and will provide the public with sufficient time to provide specific and thorough feedback to the agency in a timely manner.¹

¹ The requestors note that they are also seeking an extension of the comment period for a notice regarding a part 555 petition submitted by Ford Motor Company (Ford) that was published on the same day as the GM notice and that also has a comment period that ends on August 22, 2022. NHTSA will address this request separately.

SFMTA submitted a letter on August 8, 2022, requesting a 60-day extension of the comment period. SFMTA's request like the joint requesters', states that the petition raises numerous complex technical and policy issues involving vehicle safety that necessitate significant analysis. SFMTA also states that extending the comment period will permit them to provide comprehensive input on the many substantial questions raised. Further, SFMTA notes that, as the City of San Francisco is the location with the most intensive testing of automated vehicles to date, including the locus of GM's testing, they have valuable insights to offer and stand to be significantly affected by the outcome of the petition.²

² SFMTA also notes that they are also seeking an extension of the comment period for a notice regarding a part 555 petition submitted by Ford Motor Company (Ford) that was published on the same day as the GM notice and that also has a comment period that ends on August 22, 2022. NHTSA will address this request separately.

OakDOT submitted an email on August 10, 2022 requesting a 60-day extension of the comment period.³ OakDOT stated that they do not believe the comment period provides sufficient time for an adequate response. OakDOT further stated that, as a local jurisdiction that is charged with ensuring safety of their transportation system, they request additional time to allow cities like theirs to fully assess potential safety impacts and provide valuable comments.

³ OakDOT's email also requested a 60-day extension of the comment period for a notice regarding a part 555 petition submitted by Ford Motor Company (Ford) that was published on the same day as the GM notice and that also has a comment period that ends on August 22, 2022. NHTSA will address this request separately.

Similar requests were also received from NACTO and the League of American Bicyclists on August 10, 2022 and August 11, 2022, respectively.

Agency Decision

After consideration of the requests, NHTSA has decided to grant an extension of the comment period. The agency has determined that an extension is consistent with the public interest. NHTSA agrees that allowing additional time for the public to provide comments would be in the public interest. Therefore, NHTSA is granting the aforementioned requests to extend the comment period; however, NHTSA is extending it only for 30 days. A 30-day extension appropriately balances NHTSA's interest in providing the public with sufficient time to comment on the notice, with its interest to issue a final decision on the petition in an expeditious manner.

Authority: 49 U.S.C. 30113 and 30166; delegation of authority at 49 CFR 1.95.

Issued in Washington, DC, under authority delegated in 49 CFR 1.95.
Steven S. Cliff,
Administrator.

[FR Doc. 2022-18103 Filed 8-18-22; 11:15 am]

BILLING CODE 4910-59-P